DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act (WIOA). The Secretary of Labor established the Committee on September 15, 2014 in accordance with the provisions of the Federal Advisory Committee Act (FACA), as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act (FLSA) of 1938 (29 U.S.C. 214(c)); and (3) ways to improve oversight of the use of such certificates.

The Committee is required to meet no less than eight times. It is also required to submit an interim report to the Secretary of Labor; the Senate Committee on Health, Education, Labor and Pensions; and the House Committee on Education and the Workforce within one year of the Committee's establishment. A final report must be submitted to the same entities no later than two years from the Committee establishment date. The Committee terminates one day after the submission of the final report.

The next meeting of the Committee will take place on Monday, March 23, 2015 and Tuesday, March 24, 2015. The meeting will be open to the public on Monday, March 23 from 8:30 a.m. to 5:00 p.m. On Tuesday, March 24, the meeting will be open to the public from 8:00 a.m. to 4:00 p.m. The meeting with take place at the Kellogg Conference Hotel at Gallaudet University, 800 Florida Ave. NE., Washington, DC 20002-3695.

On March 23rd and 24th, the Committee will hear expert testimony on a number of topics, including, but not limited to: Transition issues under the Individuals with Disabilities Education Act (IDEA), an update for the Centers for Medicare and Medicaid Services (CMS), and a detailed briefing regarding enforcement under section 14(c) of the Fair Labor Standards Act (FLSA). The committee will also hear from a panel of business representatives who will discuss the latest business initiatives to employ individuals with disabilities in competitive integrated settings as well as a state panel that will describe state efforts at system change. In addition, if the subcommittees have met, they will report to the whole Committee on their efforts to date and will discuss next steps in their work.

Organizations or members of the public wishing to submit a written statement may do so by submitting 30 copies on or before March 18, 2015 to David Berthiaume, Advisory Committee on Increasing Competitive Integrated Employment for Individuals with Disabilities, U.S. Department of Labor, Suite S-1303, 200 Constitution Avenue NW., Washington, DC 20210. Statements also may be submitted as email attachments in rich text, Word, or pdf format transmitted to IntegratedCompetitiveEmployment@dol.gov. It is requested that statements not be included in the body of an email. Statements deemed relevant by the Committee and received on or before March 18, 2015 will be included in the record of the meeting. Do not include any personally identifiable information (such as name, address, or other contact information) or confidential business information that you do not want publicly disclosed. Individuals with disabilities who need accommodations or wish to submit a comment in an alternate format should contact Mr. Berthiaume by email at: IntegratedCompetitiveEmployment@dol.gov or by phone at: (202) 693-7887.

Signed at Washington, DC, this 3rd day of March, 2015.
Jennifer Sheehy,
Acting Assistant Secretary, Office of Disability Employment Policy.

[FR Doc. 2015-05417 Filed 3-6-15; 8:45 am]

BILLING CODE 4510-23-P